Proclamation 8709 of September 9, 2011

National Grandparents Day, 2011

By the President of the United States of America

A Proclamation

The support of loved ones provides the earliest and often most powerful influence on our lives. Grandparents hold a special place in our families, serving as elders, caregivers, and sources of lasting inspiration. On National Grandparents Day, we honor the loving presence of these mentors who have contributed immeasurably to the strength of our families and our Nation.

As a country, we understand our welfare is determined by that of all Americans, and it is our responsibility to provide for our grandparents as they have for us. We must keep Social Security strong and viable, while preserving it for future generations. We must strengthen Medicare by making common-sense changes that encourage high-quality care and address wasteful spending. After a lifetime of contributions to our Nation and its economy, seniors have earned this support.

Today, our grandparents continue to serve their communities in many ways. Their spirit of service and warm guidance instill in each of us the values of community and compassion and inspire all of us to reach for ever greater heights.

The greatest generation built America into a global force for prosperity, opportunity, and freedom. They taught us that with hard work, sacrifice, and a determined spirit, anything is possible. Today, we honor their contributions to our Nation and its proud story.

NOW, THEREFORE, I, BARACK OBAMA, President of the United States of America, by virtue of the authority vested in me by the Constitution and the laws of the United States, do hereby proclaim September 11, 2011, as National Grandparents Day. I call upon all Americans to take the time to honor their own grandparents and those in their community.

IN WITNESS WHEREOF, I have hereunto set my hand this ninth day of September, in the year of our Lord two thousand eleven, and of the Independence of the United States of America the two hundred and thirty-sixth.

[FR Doc. 2011-23745

Filed 9-13-11; 11:15 am]

Billing code 3195-W1-P